DEPARTMENT OF AGRICULTURE

Submission for OMB Review; Comment Request

March 14, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Direct Loan Servicing—Special.

OMB Control Number: 0560-0232.

Summary of Collection: The Farm Loan Programs (FLP) provides loans to family farmers to purchase real estate and equipment and finance agricultural production. The regulation describes the policies and procedures for Farm Service Agency's (FSA) servicing of financially distressed or delinquent direct loan borrowers in accordance with the provisions of the Consolidated Farm and Rural Development Act (Act) (Pub. L. 87-128), as amended. Direct Loan Servicing—Special, as specified in 7 CFR part 766, provides the requirements for servicing financially distressed and delinquent direct loan borrowers. FSA's loan servicing options include disaster set-aside, primary loan servicing, (including reamortization, rescheduling, deferral, write down and conservation contracts), buyout at market value, and homestead protection. In addition, the regulations describe FSA's policies and procedures regarding servicing of direct loan borrowers who file bankruptcy, as well as liquidation of security when available servicing options do not result in a feasible plan.

Need and Use of the Information: FSA will collect information using several FSA forms to provide supervised credit and authorized servicing actions to financially distressed and delinquent direct loan borrowers. Failure to collect the information could result in the failure of the farm operation or loss of Agency security property.

Description of Respondents: Farms; Business or other for-profit.

Number of Respondents: 14,929.

Frequency of Responses: Reporting: On occasion; Annually.

Total Burden Hours: 15,832.

Ruth Brown,
Departmental Information Collection Clearance Officer.

[FR Doc. 2012-6556 Filed 3-16-12; 8:45 am]

BILLING CODE 3410-05-P